DEPARTMENT OF AGRICULTURE

Forest Service

Escalante Ranger District, Dixie National Forest; Utah; Pockets Resource Management Project

AGENCY: Forest Service, USDA.

ACTION: Notice of intent to prepare an environmental impact statement.

SUMMARY: The Dixie National Forest proposes specific commercial timber harvest, pre-commercial stand treatment, and fencing in the Pockets Project area. These actions will contribute to meeting the Dixie National Forest Land and Resource Management Plan (LRMP) goals and objectives and comply with the standards and guidelines set in the LRMP. Connected with the commercial timber harvest is road system modification, including changes in the forest road system, road construction, reconstruction, maintenance, and travel management. The proposed treatments are needed at this time due to a spruce bark beetle (Dendroctonus refipennis) epidemic. In some stands, beetle attacks have removal most of the live Engelman spruce trees greater than 12 inches diameter at breast height. Timely removal of insect infested spruce trees can reduce current tree mortality from spruce bark beetle. The development of diverse healthy stands can help reduce the risk and extent of future outbreaks. The Pockets Resource Management Project is located completely within public lands on the Dixie National Forest, Escalante Ranger District. It is approximately 22 miles northwest of Escalante, Utah. The 8,564 acre project area is located within the Antimony Creek, Coyote hollow-Antimony Creek, and pacer Lake watersheds. The project area is located between 8,712 and 10,243 feet above sea level within the Engelmann spruce/subalpine fir, Douglas-fir, and aspen forest cover types.

DATES: Comments concerning the scope of the analysis must be received by July 31, 2006 to be helpful. The draft environmental impact statement is expected November 2006 and the final environmental impact statement is expected March 2007

ADDRESSES: Send written comments to Gina Lampmann, District Ranger, Escalante Ranger District, 755 West Main, PO Box 246, Escalante, Utah 84726. Comments may also be e-mailed to: comments-intermtn-dixie-escalante@fs.fed.us.

FOR FURTHER INFORMATION CONTACT: Pockets Project Manager, Escalante Ranger District, 755 West Main, PO Box 246, Escalante, Utah 84726.

Purpose and Need for Action

The purpose of this proposed action for the spruce/fir component of the forest is to salvage spruce beetle killed Engelmann spruce, reduce long term fuel loadings, improve the balance of age class distribution, decrease stand densities, and reduce tree mortality from spruce beetle on 3,715 acres. There is a need to reduce stand densities on up to 3,024 acres emphasizing harvesting stands that are highly or moderately susceptible to attack by forest pests. This will increase tree growth and vigor, and create stand conditions that are less conducive to increased bark beetle populations and disease. There is also a need to reduce beetle activity on an additional 691 acres, which are within desired stand density levels, and to salvage beetle killed Engelmann spruce trees to reduce long term fuel loading.

The purpose of this proposed action for the aspen component of the forest is to restore both the distribution and balance of the age-classes for serial aspen clones (seedling/saplings, young to mature, and older than 80 years) using timber cutting. There is a need to convert mature and over-mature aspen stands that are succeeding to conifer to the regeneration age class on approximately 350 acres. In addition, approximately 433 acres of aspen will have the understory conifer trees removed using non-commercial methods to delay succession.

The purpose of the proposed riparian treatment is to improve riparian health along the Antimony Creek stream bank. There is a need to increase the presence of healthy willow trees along the stream bank, and to reduce the encroachment of conifer along both the stream bank and meadow. Removal of spruce trees will allow for additional space for willow tree establishment and provide conditions suitable for a diverse age class of willow.

The purpose of the proposed road work is to provide a transportation system that safely facilities timber harvest and related activities and meets Best Management Practices (BMP). There is a need to modify the transportation system to allow for the safe removal of timber and the completion of post sale activities while meeting BMPs associated with timber harvest haul roads. A Travel Management Plan also needs to be developed to provide a long-term system of roads and motorized trails to meet the variety of uses occurring within the project area while protecting the natural resources. There is also a need to prevent future user developed roads by restricting off road use, particularly in riparian areas.

Proposed Action

About 3,024 acres of Engelmann spruce/sub-alpine fir forest would be harvested commercially using a combination of intermediate and sanitation/salvage treatments. Following the timber harvest, 548 of these acres would be treated with a pre-commercial thinning in which a portion of the smaller diameter trees would be cut. Finally, sanitation/salvage timber harvest, removing only spruce beetle-infested and recently killed trees, would be implemented on another 691 acres of spruce/fir.

Of the approximately 2,647 acres of aspen in the project area, approximately 350 acres would be clear-cut in 12 blocks of up to 40 acres in size using a commercial timber harvest. An additional 433 acres of aspen would be treated by hand cutting understory conifer trees less than 8 inches in diameter at breast height (DBH).

Within approximately 82 acres along the Antimony Creek drainage, conifer trees greater than or equal to 6″ DBH would be girdled to create snags. Conifer trees smaller than 6″ DBH would be cut by hand and left on the ground.

Approximately 9.0 miles of new roads would be constructed and added to the forest road system. Approximately 7.0 miles of currently unauthorized roads would be added to the NFS road system. Up to 13.4 miles of existing NFS roads would be improved for timber hauling.

Possible Alternatives

The Forest Service will likely consider an alternative to the proposed action that reduces permanent road construction.

Responsible Official

Robert A. Russell, Forest Supervisor, Dixie National Forest, 1789 Wedgewood Lane, Cedar City, UT 84720.

Nature of Decision To Be Made

The responsible official must decide whether to proceed with the project as proposed, to proceed by an alternative method, or to forgo the project at this time.

Scoping Process

In addition to the publication of this notice in the Federal Register, the Dixie National Forest will mail a copy of the proposed action to those individuals and groups who may be affected by the proposed action or who have expressed interest in the proposed action. The mailing will contain instructions for submitting comments and will request that comments be submitted by the close of the scoping period, July 31, 2006.

Preliminary Issues

Timber harvest and road construction may impact the undeveloped characteristics of a portion of the project area.

Comment Requested

This notice of intent initiates the scoping process which guides the development of the environmental impact statement. The Forest Service uses scoping early in its projects as a means to gather information about significant, site-specific issues that are directly elated to the proposed action. Comments that express concern about a resource but include no specific information regarding how the proposed action will affect that resource, do not constitute issues. Issues that the analysis shows to be significant will be resolved through project mitigation measures or through the development of alternatives that address those particular issues. While your comments are always welcome, comments received by July 31, 2006 will be most helpful.

Early Notice of Importance of Public Participation in Subsequent Environmental Review: A draft environmental impact statement will be prepared for comment. The comment period on the draft environmental impact statement will be 45 days from the date the Environmental Protection Agency publishes the notice of availability in the Federal Register.

The Forest Services believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day Draft Environmental Impact Statement comment period (expected in November, 2006) so that comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement.

Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: June 6, 2006.
Robert A. Russell,
Forest Supervisor, Dixie National Forest.

[FR Doc. 06-5466 Filed 6-15-06; 8:45 am]

BILLING CODE 3410-11-M